DEPARTMENT OF HOUSING AND URBAN DEVELOPMENT

[Docket No. FR-5687-N-03]

Notice of Proposed Information Collection: Comment Request Delegated Processing for Certain 202 Supportive Housing for the Elderly Projects

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 15, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Program Contact, Aretha Williams, Director, Office of Housing Assistance and Grants Administration, Department of Housing and Urban Development, 451 7th Street SW., Washington, DC 20410, telephone (202) 708-3000 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Delegated Processing for Certain 202 Supportive Housing for the Elderly Projects.

OMB Control Number, if applicable: 2502-0590.

Description of the need for the information and proposed use: This is an update to the currently approved collection. It is required to implement The Frank Melville Supportive Housing Investment Act of 2010 (SHIA) regarding delegated processing of certain Section 811 capital advances and program changes to the Delegated Processing program.

The Delegated Processing Agreement establishes the relationship between the Department and a Delegated Processing Agency (DPA) and details the duties and compensation of the DPA. The Certifications form provides the Department with assurances that the review of the application was in accordance with HUD requirements. The Schedule of Projects form provides the DPA with information necessary to determine if they wish to process the project and upon signature commits them to such processing. Staff of the Office of Housing Assistance and Grant Administration, Multifamily Housing Office will use the information to determine if a housing finance agency wishes to participate in the program, and obtain certifications that the review of the application was in accord with HUD requirements.

Agency form numbers, if applicable: 90000, 90001, 90002.

Estimation of the total numbers of hours needed to prepare the information collection including number of respondents, frequency of response, and hours of response: The number of burden hours is 14. The number of respondents is 8, the number of responses is 8, the frequency of response is on occasion, and the burden hour per response is 6.

Status of the proposed information collection: This is a revision of a currently approved collection.

Authority: The Paperwork Reduction Act of 1995, 44 U.S.C., Chapter 35, as amended.

Dated: February 7, 2013.
Laura M. Marin,
Acting General Deputy Assistant, Secretary for Housing-Acting General Deputy, Federal Housing Commissioner.

[FR Doc. 2013-03306 Filed 2-12-13; 8:45 am]

BILLING CODE 4210-67-P